NATIONAL ARCHIVES AND RECORDS ADMINISTRATION

Agency Information Collection Activities: Proposed Collection; Comment Request

AGENCY: National Archives and Records Administration (NARA).

ACTION: Notice.

SUMMARY: NARA is giving public notice that the agency proposes to request use of four (4) National Archives Trust Fund forms that will be used by individuals who wish to purchase copies of pages from Bankruptcy Cases (NATF 90), Civil Cases (NATF 91), Criminal Cases (NATF 92); and Court of Appeals Cases (NATF 93). The public is invited to comment on the proposed information collection pursuant to the Paperwork Reduction Act of 1995.

DATES: Written comments must be received on or before November 17, 2008 to be assured of consideration.

ADDRESSES: Comments should be sent to: Paperwork Reduction Act Comments (NHP), Room 4400, National Archives and Records Administration, 8601 Adelphi Rd, College Park, MD 20740-6001; or faxed to 301-713-7409; or electronically mailed to tamee.fechhelm@nara.gov.

FOR FURTHER INFORMATION CONTACT: Requests for additional information or copies of the proposed information collection and supporting statement should be directed to Tamee Fechhelm at telephone number 301-837-1694, or fax number 301-713-7409.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents; and (e) whether small businesses are affected by this collection. The comments that are submitted will be summarized and included in the NARA request for Office of Management and Budget (OMB) approval. All comments will become a matter of public record. In this notice, NARA is soliciting comments concerning the following information collection:

Title: Order Forms for U.S. Court Records in the National Archives.

OMB number: 3095-0063.

Agency form number: NATF Forms 90, 91, 92, and 93.

Type of review: Regular.

Affected public: Individuals or households.

Estimated number of respondents: 74,513.

Estimated time per response: 10 minutes.

Frequency of response: On occasion.

Estimated total annual burden hours: 12,419 hours.

Abstract: Submission of requests on a form is necessary to handle in a timely fashion the volume of requests received for these records (approximately 69,447 per year for the NATF 90, approximately 1,600 per year for the NATF 91, approximately 3,247 per year for the NATF 92, approximately 219 per year for the NATF 93) and the need to obtain specific information from the researcher to search for the records sought. As a convenience, the form will allow researchers to provide credit card information to authorize billing and expedited mailing of the copies. Researchers can also use Order Online! (https://eservices.archives.gov/orderonline/) to complete the forms and order the copies.

Dated: September 11, 2008.
Martha Morphy,
Assistant Archivist for Information Services.

[FR Doc. E8-21749 Filed 9-16-08; 8:45 am]

BILLING CODE 7515-01-P